RAILROAD RETIREMENT BOARD

20 CFR Part 320

RIN 3220-AB58

Electronic Filing of Reconsideration Requests by Railroad Employers

AGENCY: Railroad Retirement Board.

ACTION: Proposed rule.

SUMMARY: The Railroad Retirement Board (Board) proposes to amend its regulations to include the option of electronic filing by railroad employers of requests for reconsideration of initial decisions under the Railroad Unemployment Insurance Act (RUIA). Part 320 currently requires that reconsideration requests be submitted in writing. The proposed rule would allow reconsideration requests to be made by railroad employers either in writing or electronically. In addition, §§ 320.10(c) and 320.10(d) inadvertently contain inaccurate references. This proposed rule would correct those references.

DATES: Submit comments on or before September 23, 2005.

ADDRESSES: Address any comments concerning this proposed rule to Beatrice Ezerski, Secretary to the Board, Railroad Retirement Board, 844 North Rush Street, Chicago, Illinois 60611-2092.

FOR FURTHER INFORMATION CONTACT: Marguerite P. Dadabo, Assistant General General Counsel, (312) 751-4945, TTD (312) 751-4701.

SUPPLEMENTARY INFORMATION: Part 320 of the Board's regulations deals generally with administrative review of initial determinations of claims or requests for waiver of recovery of overpayments under the Railroad Unemployment Insurance Act (RUIA). Currently, the regulations require all requests for reconsideration of initial decisions to be made in writing. The proposed rule would allow railroad employers to use updated technology, such as computers and e-mail, to request reconsideration of an initial decision. Specifically, the Board proposes to amend section 320.10(a) to allow railroad employers to file requests for reconsideration under the RUIA via an electronic program that has been approved by the agency.

In addition, the proposed rule would amend section 320.10(c) to change the incorrect references to “§ 310.12” to the correct references of “§ 320.12” in the last two sentences of this section.

Section 320.10(d) is proposed to be amended to change the incorrect reference to “§ 310.5” to the correct reference of “§ 320.5” in the first sentence of this section. This section would also be amended to provide that a railroad employer's request for reconsideration can be made in writing or electronically.

Collection of Information Requirements

There is an information collection impacted by the proposed rule:

In accordance with the Paperwork Reduction Act of 1995 (44 U.S.C. chapter 35), the Railroad Retirement Board (Board) has submitted the following proposal(s) for the collection of information to the Office of Management and Budget for review and approval.

Summary of Proposal(s):

(1) Collection Title: RUIA Claims Notification System.

(2) Form(s) Submitted: ID-4K, ID-4K (Internet), ID-4E, ID-4E (Internet).

(3) OMB Number: 3220-0171.

(4) Expiration Date of Current OMB Clearance: 9/30/2005.

(5) Type of Request: Revision of a currently approved collection.

(6) Respondents: Business or other for-profit.

(7) Estimated Annual Number of Respondents: 669.

(8) Total Annual Responses: 18,700.

(9) Total Annual Reporting Hours: 339.

(10) Collection Description: Section 5(b) of the RUIA requires that effective January 1, 1990, “* * * when a claim for benefits is filed with the Board, the Board shall provide notice of such claim to the claimant's base-year employer or employers and afford such employer or employers an opportunity to submit information relevant to the claim before making an initial determination on the claim. When the Board initially determines to pay benefits to a claimant under this Act, the Board shall provide notice of such determination to the claimant's base-year employer or employers.”

The purpose of the RUIA Claims Notification System is to provide to every unemployment and sickness claimant's base-year employer or current employer, notice of each claim for benefits under the RUIA and to provide an opportunity for employers to convey information relevant to the proper adjudication of the claim. Railroad employers currently receive notice of applications and claims by one of two options. The first option, Form ID-4K, is a computer generated form letter notice of all unemployment applications, unemployment claims and sickness claims received from employees of a railroad company on a particular day. Forms Letters ID-4K are mailed on a daily basis to officials designated by railroad employers.

The second option is an Electronic Data Interchange (EDI) version of the Form Letter ID-4K notice. EDI notices of applications are transmitted to participating railroads on a daily basis, generally on the same day that unemployment applications and unemployment and sickness claims are received. Railroad employers can respond to Board notices of applications and claims manually by mailing a completed ID-4K back to the Board or electronically via EDI. No changes are being proposed to Form ID-4K. However, the Board is proposing the establishment of a third option, an Internet equivalent ID-4K which will provide for the required notification by the Board and response from railroad employers through the Board's Internet-based Employer Reporting System. Completion is voluntary.

Upon receipt of notice the Board has allowed a claim, either in whole or in part, the claimant's base-year employer (s) may request a review of the determination to pay benefits, if the employers believe the determination is incorrect. The Board will utilize proposed Form Letter ID-4E, Notice of RUIA Claim Determinations and a proposed Internet equivalent ID-4E to notify base-year employers when the Board has made a determination to pay benefits and to allow them to request the Board to review the determination. Form Letter ID-4E will be mailed on a daily basis to officials designated by railroad employers. The Internet equivalent option of the ID-4E notice will be sent to participating railroads via the Internet on a daily basis, generally on the same day that the claims are approved for payment. Railroad employers will be able to request that the Board review the determination by either filing a completed ID-4E with the Board by Mail or via the Internet. Completion is voluntary.

Estimate of Annual Respondent Burden
Table | Annual responses | Time (min) | Burden hours
ID-4K (Manual) | 1,250 | 2 | 42
ID-4K (EDI) | 14,850 | (¹) | 210
ID-4K (Internet) | 2,500 | 2 | 83
ID-4E (Manual) | 75 | 2 | 3
ID-4E (Internet) | 25 | 2 | 1
Total | 18,700 |  | 339
¹ The burden for the 5 participating employers who transmit EDI responses is calculated at 10 minutes each per day, 251 workdays a year or 210 total hours of burden.

Comments are invited on: (a) Whether the proposed information collection is necessary for the proper performance of the functions of the agency, including whether the information has practical utility; (b) the accuracy of the Board's estimate of the burden of the collection of the information; (c) ways to enhance the quality, utility, and clarity of the information to be collected; and (d) ways to minimize the burden related to the collection of information on respondents, including the use of automated collection techniques or other forms of information technology.

To request more information or to obtain a copy of the information collection justification, forms, and/or supporting material, please contact the Board Clearance Officer at (312) 751-3363 or Charles.Mierzwa@rrb.gov. Comments regarding the information collection should be addressed to Ronald J. Hodapp, Railroad Retirement Board, 844 N. Rush Street, Chicago, Illinois 60611-2092 or Ronald.Hodapp@rrb.gov and to the OMB Desk Officer for the Board, at the Office of Management and Budget, Room 10230, New Executive Office Building, Washington DC 20503. Comments can be received from 30 days of publication up to the close of the rules comment period but comment to OMB will be most useful if received by OMB within 30 days of publication of this notice.

List of Subjects in 20 CFR Part 320

Administrative practice and procedure, Claims, Railroad unemployment insurance, Reporting and recordkeeping requirements.

For the reasons set out in the preamble, the Railroad Retirement Board proposes to amend title 20, chapter II, subchapter C, part 320 of the Code of Federal Regulations as follows:

PART 320—INITIAL DETERMINATIONS UNDER THE RAILROAD UNEMPLOYMENT INSURANCE ACT AND REVIEWS OF AND APPEALS FROM SUCH DETERMINATIONS

1. The authority citation for part 320 continues to read as follows:

Authority: 45 U.S.C. 355 and 362(l).

2. Section 320.10 is amended as follows:

a. Add a new sentence at the end of paragraph (a);

b. Amend paragraph (c) by removing the reference to “§ 310.12” and adding a reference to “§ 320.12” in its place wherever it appears; and

c. Revise paragraph (d).

The addition and revision read as follows:

§ 320.10 Reconsideration of initial determination.

(a) * * * A railroad employer may fulfill the written request requirement by using an electronic system that has been approved by the agency in the manner prescribed by the agency.

* * * * *

(d) Right to further review of initial determination. The right to further review of a determination made under § 320.5 or § 320.9 of this part shall be forfeited unless a written request for reconsideration is filed within the time period prescribed in this section or good cause is shown by the party requesting reconsideration for failing to file a timely request for reconsideration. A railroad employer may fulfill the written request requirement by using an electronic system approved by the agency in the manner prescribed by the agency.

* * * * *

Dated: July 15, 2005.
By Authority of the Board.
Beatrice Ezerski,
Secretary to the Board.

[FR Doc. 05-14227 Filed 7-22-05; 8:45 am]

BILLING CODE 7905-01-P